DEPARTMENT OF LABOR

Employment and Training Administration

[TA-W-60,807]

NothelferGilman, Incorporated, Currently Known as Thyssenkrupp Drauz Nothelfer NA, Inc., Formerly Known as Gilman Engineering and Manufacturing Company, Including On-Site Leased Workers From Advanced Project Services, LLC, Aerotek, Inc., Human Capital Solutions, Impact Engineering Solutions, Inc. Techstaff of Milwaukee, Inc., Manpower, Inc. Van Marter & Associates, Inc. and VM Resources, Inc., Janesville, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 8, 2007, applicable to workers of NothelferGilman, Inc., formerly known as Gilman Engineering and Manufacturing Company, including on-site leased workers from Advanced Project Services, LLC, Aerotek, Inc., Human Capital Solutions, Impact Engineering Solutions, Inc., and Techstaff of Milwaukee, Inc., Janesville, Wisconsin. The notice was published in the Federal Register on March 22, 2007 (72 FR 13528).

The certification was amended on July 22, 2008 to show the subject firm is currently known as ThyssenKrupp Drauz Nothelfer NA, Inc. and to include on-site leased workers from Manpower. The notice was published in the Federal Register on July 30, 2008 (73 FR 44282). The certification was also amended on September 19, 2008 to include an employee located in Auburn Hills, Michigan and was published in the Federal Register on September 29, 2008. (73 FR 55139).

At the request of a company official, the Department reviewed the certification for workers of the subject firm. The workers were engaged in the production of assembly and welding systems.

New information shows that workers leased from Van Marter & Associates, Inc., and VM Resources, Inc. were employed on-site at the Janesville, Wisconsin location of NothelferGilman, Inc., currently known as ThyssenKrupp Drauz Nothelfer NA, Inc., formerly known as Gilman Engineering and Manufacturing Company. The Department has determined that these workers were sufficiently under the control of the subject firm to be considered leased workers.

Based on these findings, the Department is amending this certification to include leased workers from Van Marter & Associates, Inc., and VM Resources, Inc. working on-site at the Janesville, Wisconsin location of the subject firm.

The amended notice applicable to TA-W-60,807 is hereby issued as follows:

All workers of NothelferGilman, Inc., currently known as ThyssenKrupp Drauz Nothelfer NA, Inc., formerly known as Gilman Engineering and Manufacturing Company, including on-site leased workers of Advanced Project Services, LLC, Aerotek, Inc., Human Capital Solutions, Impact Engineering Solutions, Inc., Techstaff of Milwaukee, Inc., Manpower, Inc., Van Marter & Associates, Inc., and VM Resources, Inc., Janesville, Wisconsin, who became totally or partially separated from employment on or after January 22, 2007, through March 8, 2009, are eligible to apply for adjustment assistance under Section 223 of the Trade Act of 1974, and are also eligible to apply for alternative trade adjustment assistance under Section 246 of the Trade Act of 1974.

Signed at Washington, DC, this 14th day of January 2009.
Elliott S. Kushner,
Certifying Officer, Division of Trade Adjustment Assistance.

[FR Doc. E9-2130 Filed 1-30-09; 8:45 am]

BILLING CODE 4510-FN-P